DEPARTMENT OF ENERGY

Federal Energy Regulatory Commission

[Project No. 739-022]

Appalachian Power Company; Notice of Application Accepted for Filing, Soliciting Motions To Intervene and Protests, Ready for Environmental Analysis, and Soliciting Comments, Recommendations, Preliminary Terms and Conditions, and Preliminary Fishway Prescriptions

September 30, 2009.

Take notice that the following hydroelectric application has been filed with the Commission and is available for public inspection.

a. Type of Application: New Major License.

b. Project No.: 739-022.

c. Date filed: June 29, 2009.

d. Applicant: Appalachian Power Company.

e. Name of Project: Claytor Project.

f. Location: The existing project is located on the New River in Pulaski County, Virginia. The project does not affect Federal lands.

g. Filed Pursuant to: Federal Power Act 16 U.S.C. 791(a)-825(r).

h. Applicant Contact: Ms. Teresa Rogers, Reservoir Superintendent, Appalachian Power Company, 40 Franklin Road, Roanoke, VA 24011, (540) 985-2441, tprogers@aep.com.

i. FERC Contact: John Smith, (202) 502-8972 or john.smith@ferc.gov.

j. Deadline for filing motions to intervene and protests, comments, recommendations, preliminary terms and conditions, and preliminary fishway prescriptions is 60 days from the issuance of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, preliminary terms and conditions, and preliminary fishway prescriptions may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

k. This application has been accepted for filing and is now ready for environmental analysis.

l. The Project Description: The Claytor Project consists of: (1) A 1,142-foot-long, 137-foot-high concrete gravity dam; (2) a 4,472-acre reservoir with a storage capacity of 225,000 acre-feet at normal pool elevation 1,846.0 feet National Geodetic Vertical Datum (NGVD); (3) four 16-foot-diameter penstocks; (4) a powerhouse integral with the dam containing four generating units with a combined capacity of 75 megawatts; (5) a 1,000-foot-long transmission line; and (6) switching and appurtenant equipment.

The applicant proposes to expand its current levelized flow mode whereby releases from the project approximate inflows to the project over a 24-hour period from April 15 through October 15 to April 1 through November 30. Reservoir levels would continue to be maintained between 1,845 feet NGVD and 1,846 feet NGVD and a minimum average hourly flow of 750 cubic feet per second (cfs), or inflow, whichever is less, would be provided downstream of the project. The applicant would also modify the current period for peaking operations from October 16 through April 14 to December 1 through March 31 and increase its minimum average hourly downstream flow from 750 cfs to 1,000 cfs, or inflow, whichever is less. During this period, the applicant would extend the time to ramp down during peaking operations from 15 minutes to 30 minutes but continue to bring units on line in 15 minute intervals to meet system demands. Reservoir levels would be maintained between 1,844 feet NGVD and 1,846 feet NGVD. In addition, the applicant would eliminate the current winter drawdown to protect aquatic resources including State-listed mussel populations. For recreation purposes, the applicant is proposing to provide weekend releases of 1,000 cfs when inflow falls below 1,000 cfs but is above 800 cfs and would provide recreation releases for the annual squirt boat competition each May.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS”; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target date
Commission issues Draft EA | May 28, 2010.
Comments on Draft EA | June 27, 2010.
Modified Terms and Conditions | August 26, 2010.
Commission Issues Final EA | November 24, 2010.

p. Final amendments to the application must be filed with the Commission no later than 30 days from the issuance date of this notice.

Kimberly D. Bose,
Secretary.

[FR Doc. E9-24122 Filed 10-6-09; 8:45 am]

BILLING CODE 6717-01-P